CONSUMER PRODUCT SAFETY COMMISSION

Sunshine Act Meeting Notice

DATES: Time and Date: Wednesday, October 26, 2011, 10 a.m.-12 p.m.

PLACE: Room 420, Bethesda Towers, 4330 East West Highway, Bethesda, Maryland.

STATUS: Commission Meeting—Open to the Public.

Matters To Be Considered

Public Hearing: Alternative Testing Requirements for Small Batch Manufacturers.

A live webcast of the Meeting can be viewed at http://www.cpsc.gov/webcast.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: October 19, 2011.
Todd A. Stevenson,
Secretariat.

[FR Doc. 2011-27499 Filed 10-20-11; 11:15 am]

BILLING CODE 6355-01-P